DEPARTMENT OF DEFENSE

Department of the Army

Proposed Collection; Comment Request

AGENCY: Department of the Army, DoD.

ACTION: Notice.

In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 19, 2002.

ADDRESSES: Written comments and recommendations on the proposed information collection should be sent to Department of the Army, Office of the Assistant G-1 (Civilian Personnel Policy), Plans and Strategies Division, Hoffman I, Attn: DAPE-CP-PL (Murray J. Mack), 2661 Eisenhower Avenue, Hoffman I, Room 400, Alexandria, VA 22332-0300. Consideration will be given to all comments received within 60 days of the date of publication of this notice.

FOR FURTHER INFORMATION CONTACT: To request more information on this proposed information collection or to obtain a copy of the proposal and associated collection instruments, please write to the above address, or call Department of the Army Reports Clearance Officer at (703) 692-1451.

Title: Evaluation of the Army Benefits Center—Civilian (ABC-C) Retirement System.

Needs and Uses: To assess the utility and efficiency of the Army Benefits Center—Civilian (ABC-C) retirement system. To this end, recently retired Army civilian employees whose retirements were processed by the Army Benefits Centers will be surveyed. The purpose of the survey is to determine the degree of customer satisfaction with the current system and to make recommendations for improvements.

Affected Public: Individuals or household.

Annual Burden Hours: 375.

Number of Respondents: 1,500.

Responses per Respondent: 1.

Average Burden per Response: 15 minutes.

Frequency: One time.

SUPPLEMENTARY INFORMATION: The Army Benefit Center—Civilian replaces the old way of doing business and is a major change for management, supervisors, employees, CPOC, and Civilian Personnel Advisory Center (CPAC) staff. The ABC-C services include information and assistance regarding the Federal Employee's Health Benefits (FEHB) Program, the Federal Employees' Group Life Insurance (FEGLI) Program, the thrift Savings Plan (TSP) Program, Civil Service Retirement System (CSRS) and Federal Employees' Retirement System (FERS), and survivor benefits (death and dismemberment claims).

Luz D. Ortiz,
Army Federal Register Liaison Officer.

[FR Doc. 02-23851 Filed 9-19-02; 8:45 am]

BILLING CODE 3710-08-M